NATIONAL SCIENCE FOUNDATION

National Science Board; Committee on Programs and Plans; Sunshine Act; Notice

The National Science Board's Committee on Programs and Plans, pursuant to NSF regulations (45 CFR part 614), the National Science Foundation Act, as amended (42 U.S.C. 1862n-5), and the Government in the Sunshine Act (5 U.S.C. 552b), hereby gives notice in regard to the scheduling of a teleconference for the transaction of National Science Board business and other matters specified, as follows:

Date and Time: Thursday, January 10, 2008, 11 a.m.

Subject Matter: Recommendations from the Committee on Programs and Plans to the Board for responding to Congress regarding facilities operations and maintenance costs.

Status: Open.

Place: This teleconference will originate at the National Science Board Office, National Science Foundation, 4201 Wilson Blvd., Arlington, VA 22230. A room will be available to the public to listen to this teleconference but visitors must report to the NSF reception desk at the 9th and N. Stuart Streets entrance to receive a visitor's badge. Please check with the reception desk for the room number.

Please refer to the National Science Board Web site (http://www.nsf.gov/nsb) for information or schedule updates, or contact: Dr. Robert Webber, National Science Board Office, 4201 Wilson Blvd., Arlington, VA 22230. Telephone: (703) 292-7000.

Russell Moy,
Attorney-Advisor.

[FR Doc. E7-25308 Filed 12-28-07; 8:45 am]

BILLING CODE 7555-01-P [?USGPO Galley End:?]